DEPARTMENT OF THE INTERIOR

Fish and Wildlife Service

[Docket No. FWS-R7-ES-2022-0155; FF07CAMM00-FXES111607MWA07]

Marine Mammal Protection Act; Draft Stock Assessment Reports for the Pacific Walrus Stock and Three Northern Sea Otter Stocks in Alaska

AGENCY: Fish and Wildlife Service, Interior.

ACTION: Notice of availability; request for comments.

SUMMARY: In accordance with the Marine Mammal Protection Act and its implementing regulations, we, the U.S. Fish and Wildlife Service, have developed draft revised marine mammal stock assessment reports (SAR) for the Pacific walrus (Odobenus rosmarus divergens) and for each of the three northern sea otter (Enhydra lutris kenyoni) stocks in Alaska. We invite comments on the four SARs from the public and from Federal, tribal, state, and local governments.

DATES: We must receive comments by May 8, 2023. Comments submitted electronically using the Federal eRulemaking Portal (see ADDRESSES, below) must be received by 11:59 p.m. Eastern Time on the closing date.

ADDRESSES:

Obtaining Documents: You may view the draft revised stock assessment reports at https://www.regulations.gov under Docket No. FWS-R7-ES-2022-0155, or you may request copies from the contact under FOR FURTHER INFORMATION CONTACT.

Submitting Comments: You may submit comments by one of the following methods:

• Internet: https://www.regulations.gov. Search for and submit comments on FWS-R7-ES-2022-0155.

• U.S. mail: Public Comments Processing, Attn: Docket No. FWS-R7-ES-2022-0155, U.S. Fish and Wildlife Service, MS: PRB (JAO/3W), 5275 Leesburg Pike, Falls Church, Virginia 22041-3803.

We request that you send comments only by one of the two methods described above. We will post all comments at https://www.regulations.gov. You may request that we withhold personal identifying information from public review; however, we cannot guarantee that we will be able to do so. For more information, see Public Comment Procedures under SUPPLEMENTARY INFORMATION.

FOR FURTHER INFORMATION CONTACT: Jenipher Cate, Marine Mammals Management, by telephone at 907-205-8322; by email at jenipher_cate@fws.gov; or by mail at U.S. Fish and Wildlife Service, MS-341, 1011 East Tudor Road, Anchorage, Alaska 99503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Marine Mammal Protection Act of 1972, as amended (MMPA; 16 U.S.C. 1361 et seq.), and its implementing regulations in the Code of Federal Regulations (CFR) at 50 CFR part 18, we, the U.S. Fish and Wildlife Service (Service), have developed four draft revised marine mammal stock assessment reports (SARs) for species in Alaska. The draft revised SARs are for the Pacific walrus (Odobenus rosmarus divergens) and for each of the three stocks of the northern sea otter (Enhydra lutris kenyoni) in Alaska—the southwest, southcentral, and southeast stocks. We invite comments on the four draft SARs from the public and from Federal, Tribal, State, and local governments.

Background

Under the MMPA and its implementing regulations, we regulate the taking, possession, transportation, purchasing, selling, offering for sale, exporting, and importing of marine mammals. One of the goals of the MMPA is to ensure that each stock of marine mammals occurring in waters under U.S. jurisdiction does not experience a level of human-caused mortality and serious injury that is likely to cause the stock to be reduced below its optimum sustainable population level (OSP). The MMPA defines the OSP as “the number of animals which will result in the maximum productivity of the population or the species, keeping in mind the carrying capacity of the habitat and the health of the ecosystem of which they form a constituent element” (16 U.S.C. 1362).

To help accomplish the goal of maintaining marine mammal stocks at their OSPs, section 117 of the MMPA requires the Service and the National Marine Fisheries Service (NMFS) to prepare an SAR for each marine mammal stock that occurs in waters under U.S. jurisdiction. When preparing SARs, section 117 of the MMPA also requires the Service to consider the best scientific information available and consult with regional scientific review groups, established under section 117(d) of the MMPA. Pursuant to section 117(a) of the MMPA, each SAR must include: (1) A description of the stock and its geographic range; (2) a minimum population estimate, maximum net productivity rate, and current population trend; (3) an estimate of the annual human-caused mortality and serious injury of the stock by source and, for a strategic stock, other factors that may be causing a decline or impeding recovery of the stock, including effects on marine mammal habitat and prey; (4) commercial fishery interactions; (5) categorization of the status of the stock; and (6) an estimate on the potential biological removal (PBR) level.

The MMPA defines the PBR level as “the maximum number of animals, not including natural mortalities, that may be removed from a marine mammal stock while allowing that stock to reach or maintain its optimum sustainable population.” (16 U.S.C. 1362(20)). The PBR is the product of the minimum population estimate of the stock (Nmin); one-half the maximum theoretical or estimated net productivity rate of the stock at a small population size (Rmax); and a recovery factor (Fr) of between 0.1 and 1.0, which is intended to compensate for uncertainty and unknown estimation errors. This can be written as: PBR = (Nmin)(½ of the Rmax)(Fr)

Section 117 of the MMPA also requires the Service and NMFS to review the SARs (1) at least annually for stocks that are specified as strategic stocks; (2) at least annually for stocks for which significant new information is available; and (3) at least once every 3 years for all other stocks. If our review of the status of a stock indicates that it has changed or may be more accurately determined, then the SAR must be revised accordingly.

A strategic stock is defined in the MMPA as a marine mammal stock “(A) for which the level of direct human-caused mortality exceeds the PBR; (B) which, based on the best available scientific information, is declining and is likely to be listed as a threatened species under the Endangered Species Act of 1973, as amended (16 U.S.C. 1531 et seq.), within the foreseeable future; or (C) which is listed as a threatened or endangered species under the ESA, or is designated as depleted under [the MMPA].” (16 U.S.C. 1362(19)).

Summary of Draft Revised Stock Assessment Reports

The SARs for the Pacific walrus (Odobenus rosmarus divergens) and for the southwest, southcentral, and southeast stocks of the northern sea otter (Enhydra lutris kenyoni) were last revised in 2014 (79 FR 22154). In 2021, the Service preliminarily concluded that stock assessment revisions are warranted for each of these stocks because the status of the stocks can be more accurately determined at this time. We based this determination on new information that has become available, such as population estimates for all these stocks, that allows us to better describe their status. The Service is in consultation with the Alaska Regional Scientific Review Group, established under section 117 of the MMPA, on these draft revised SARs.

The following table summarizes the draft revised SARs for the Pacific walrus and the southwest, southcentral, and southeast stocks of the northern sea otter, listing each stock's Nmin, Rmax, Fr, PBR, annual estimated human-caused mortality and serious injury, and status.

Summary of Draft Revised Stock Assessment Reports for the Pacific Walrus and for the Southwest, Southcentral, and Southeast Stocks of the Northern Sea Otter
Stock | Nmin | Rmax | Fr | PBR | Annual estimated human-caused mortality: Fishery/other | Annual estimated human-caused mortality: Subsistence | Stock status
Pacific Walrus | 214,008 | 0.06 | 0.5 | 3,210 | <1 | 4,210 | Strategic.
Northern Sea Otter, Southwest Stock | 41,666 | 0.29 | 0.4 | 2,417 | <1 | 176 | Strategic.
Northern Sea Otter, Southcentral Stock | 19,854 | 0.29 | 0.75 | 2,159 | <1 | 389 | Nonstrategic.
Northern Sea Otter, Southeast Stock | 25,768 | 0.29 | 0.75 | 2,803 | <1 | 851 | Nonstrategic.

Public Comment Procedures

If you wish to comment on any of the revised draft SARs, you may submit your comments by one of the methods in ADDRESSES. Please identify which revised draft SAR you are commenting on, make your comments as specific as possible, confine comments to issues pertinent to the draft revised SARs, and explain the reasons for any changes you recommend. Where possible, your comments should reference the specific section or paragraph of the SAR that you are addressing. We will consider all comments that are received by the close of the comment period (see DATES).

Comments, including names and addresses of respondents, will become part of the administrative record. Before including your address, telephone number, email address, or other personal identifying information in your comment, be advised that your entire comment, including your personal identifying information, may be made publicly available at any time. While you can ask us in your comments to withhold from public review your personal identifying information, we cannot guarantee that we will be able to do so.

Next Steps

After consideration of any public comments received, we will revise each of the SARs as appropriate for these stocks. We plan to publish a notice of availability and summary of the final revised SARs, including responses to comments we received.

References

The complete list of references used during the drafting of each of the four draft revised SARs is available at https://www.regulations.gov under Docket No. FWS-R7-ES-2022-0155 and upon request from the Alaska Marine Mammals Management Office (see FOR FURTHER INFORMATION CONTACT).

Authority

The authority for this action is the Marine Mammal Protection Act of 1972, as amended (16 U.S.C. 1361 et seq.).

Martha Williams,
Director, U.S. Fish and Wildlife Service.

[FR Doc. 2023-02513 Filed 2-6-23; 8:45 am]

BILLING CODE 4333-15-P